DEPARTMENT OF THE INTERIOR

National Park Service

[NPS-WASO-CR-1011-8604; 2200-3200-665]

Proposed Information Collection; Nomination of Properties for Listing on the National Register of Historic Places

AGENCY: National Park Service (NPS), Interior.

ACTION: Notice; request for comments.

SUMMARY: We (National Park Service) will ask the Office of Management and Budget (OMB) to approve the information collection (IC) described below. To comply with the Paperwork Reduction Act of 1995 and as a part of our continuing efforts to reduce paperwork and respondent burden, we invite the general public and other Federal agencies to comment on this IC. This IC is scheduled to expire on May 31, 2012. We may not conduct or sponsor and a person is not required to respond to a collection unless it displays a currently valid OMB control number.

DATES: Please submit your comment on or before December 27, 2011.

ADDRESSES: Please send your comments on the IC to Madonna Baucum, Information Collections Coordinator, National Park Service, 1201 Eye St., NW., MS 1242, Washington, DC 20005 (mail); or madonna_baucum@nps.gov (e-mail). Please reference Information Collection 1024-0018.

FOR FURTHER INFORMATION CONTACT: Lisa Deline, NPS Historian, National Register of Historic Places, 1201 Eye St., NW, 20005. You may send an e-mail to Lisa_Deline@nps.gov or contact her by telephone at (202/354-2239) or via fax at (202/371-2229). You are entitled to a copy of the entire IC package free-of-charge.

SUPPLEMENTARY INFORMATION:

I. Abstract

The National Register of Historic Places (National Register) is the official Federal list of districts, sites, buildings, structures, and objects significant in American history, architecture, archeology, engineering, and culture. National Register properties have significance to the history of communities, States, or the Nation. The National Historic Preservation Act of 1966 requires the Secretary of the Interior to maintain and expand the National Register, and to establish criteria and guidelines for including properties on the National Register. National Register properties must be considered in the planning for Federal or federally assisted projects, and listing on the National Register is required for eligibility for Federal rehabilitation tax incentives.

The National Park Service administers the National Register. Nominations for listing historic properties come from State Historic Preservation Officers, from Federal Preservation Officers for properties owned or controlled by the United States Government, and from Tribal Historic Preservation Officers for properties on tribal lands. Private individuals and organizations, local governments, and American Indian tribes often initiate this process and prepare the necessary documentation. Regulations at 36 CFR 60 and 63 establish the criteria and guidelines for listing properties.

We use three forms for nominating properties and providing documentation for the proposed listings:

• NPS Form 10-900 (National Register of Historic Places Registration Form).

• NPS Form 10-900-a (National Register of Historic Places Continuation Sheet).

• NPS Form 10-900-b (National Register of Historic Places Multiple Property Documentation Form).

These forms and documentation go to the State Historic Preservation Office (SHPO) of the State where the property is located. The SHPO can take one of several options: reject the property, ask for more information, list the property just with the State, or send the forms to us for listing on the National Register. Once we receive the forms, we conduct a similar review process.

Listing on the National Register provides formal recognition of a property's historical, architectural, or archeological significance based on national standards used by every State. The listing places no obligations on private property owners, and there are no restrictions on the use, treatment, transfer, or disposition of private property.

II. Data

OMB Control Number: 1024-0018.

Title: Nomination of Properties for Listing in the National Register of Historic Places, 36 CFR 60 and 63.

Form(s): 10-900, 10-900-a, and 10-900-b.

Type of Request: Extension of a previously approved collection of information.

Description of Respondents: State, tribal, and local governments; businesses; nonprofit organizations; and individuals.

Respondent's Obligation: Required to obtain or retain benefits.

Frequency of Collection: On Occasion.

Activity | Annual responses | Avgerage time/response (hr) | Total annual burden hours
(1) Multiple Property Submission | 34 | 36 | 1,224
(2) Individual Nominations | 941 | 67.5 | 63,518
(3) District Nominations | 306 | 123 | 37,638
Total | 1,281 |  | 102,380

III. Comments

We invite comments concerning this IC on:

• Whether or not the collection of information is necessary, including whether or not the information will have practical utility;

• The accuracy of our estimate of the burden for this collection of information;

• Ways to enhance the quality, utility, and clarity of the information to be collected; and

• Ways to minimize the burden of the collection of information on respondents.

Please note that the comments submitted in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: October 18, 2011.
Robert M. Gordon,
Information Collection Clearance Officer, National Park Service.

[FR Doc. 2011-27600 Filed 10-24-11; 8:45 am]

BILLING CODE 4312-51-P